DEPARTMENT OF AGRICULTURE

Rural Housing Service

[Docket No. RHS-23-CF-0020]

Announcement of the Availability of Community Facilities Program Disaster Repair Grants

AGENCY: Rural Housing Service, USDA.

ACTION: Notice.

SUMMARY: The Rural Housing Service (RHS or Agency), a Rural Development (RD) mission area of the United States Department of Agriculture (USDA), announces the availability of up to $50 million in grant funding through its Community Facilities Program (CF) to repair Essential community facilities damaged by Presidentially Declared Disasters in Calendar Year (CY) 2022, to remain available until expended. The supplemental disaster grant funding was received under the Consolidated Appropriations Act, 2023.

DATES: Applications for the Community Facilities Disaster Repair Grant Program will be accepted on a continual basis by the applicable USDA RD Office (see ADDRESSES section for details), beginning on July 20, 2023, until funds are expended. Interested applicants must contact the RD Office for the state where the project is located to discuss potential projects prior to preparing their application and to connect with a technical assistance provider.

ADDRESSES: This funding opportunity will be made available for informational purposes on Grants.gov. Applications must be submitted to the USDA RD State Office for the state where the project is located. Application information may be submitted in paper or electronic format to the appropriate RD State Office and will be accepted on a continual basis.

Applicants must contact their respective RD State Office for information on grant eligibility, the application process, and for an address to submit application information. A list of the USDA RD State Office contacts can be found at: https://www.rd.usda.gov/about-rd/state-offices.

FOR FURTHER INFORMATION CONTACT: Surabhi Dabir at Surabhi.dabir@usda.gov, Community Facilities Program, RHS, USDA or call 202-768-5875. Persons with disabilities that require alternative means for communication should contact the U.S. Department of Agriculture (USDA) Target Center at (202) 720-2600 (voice); or the Federal Relay Service at 711 Relay Service.

SUPPLEMENTARY INFORMATION:

Overview

Federal Agency Name: Rural Housing Service (RHS), USDA.

Funding Opportunity Title: Announcement of the Availability of Community Facilities Program Disaster Repair Grants.

Announcement Type: Notice of Funding Opportunity (NOFO).

Funding Opportunity Number: USDA-RHS-CFDG-2023.

Assistance Listing: 10.766.

Dates: Applications for the Community Facilities Disaster Repair Grant Program will be accepted on a continual basis by the USDA RD Office for the state where the project is located (see ADDRESSES section for details), beginning on July 20, 2023, until all funds are expended. Interested applicants must contact the RD Office for the state where the project is located to discuss potential projects prior to preparing their application and to connect with a technical assistance provider.

Rural Development Key Priorities: The Agency encourages applicants to consider projects that will advance the following key priorities (more details available at https://www.rd.usda.gov/priority-points):

• Assisting rural communities recover economically through more and better market opportunities and through improved infrastructure;

• Ensuring all rural residents have equitable access to RD programs and benefits from RD funded projects; and

• Reducing climate pollution and increasing resilience to the impacts of climate change through economic support to rural communities.

A. Program Description

1. Purpose of the Program

CF offers direct loans, loan guarantees and grants to develop or improve essential public services and facilities in communities across rural America. Public bodies, non-profit organizations and federally recognized American Indian Tribes can use the funds to construct, expand or improve facilities that provide health care, education, public safety, and public services. Projects include fire and rescue stations, village and town halls, health care clinics, hospitals, adult and childcare centers, assisted living facilities, rehabilitation centers, public buildings, schools, libraries, and many other community-based initiatives.

This NOFO is being issued pursuant to the disaster funds made available by the Disaster Relief Supplemental Appropriations Act, 2023. Grants will be provided to eligible applicants to repair eligible Essential community facilities damaged by Presidentially Declared Disasters that occurred in CY 2022. Subject to any updates to the Presidentially Declared Disasters, the following states have been identified with areas that have been impacted by qualifying events during CY 2022: Alaska, American Samoa, Arizona, California, Florida, Idaho, Illinois, Kansas, Kentucky, Maine, Massachusetts, Minnesota, Mississippi, Missouri, Montana, Nebraska, Nevada, New Hampshire, New Mexico, New York, North Carolina, North Dakota, Oklahoma, Oregon, Puerto Rico, Rhode Island, South Carolina, South Dakota, Tennessee, Texas, U.S. Virgin Islands, Vermont, Virginia, Washington, and West Virginia. For the most current list of Presidentially Declared Disasters, visit the United States (U.S.) Department of Homeland Security, Federal Emergency Management Agency (FEMA) website at https://www.fema.gov/disaster/declarations.

Details on eligible CF applicants and eligible CF projects may be found in Section C. Eligibility Information below.

Funds will be allocated to the USDA Rural State Offices in States impacted by Presidentially declared disasters occurring in CY 2022. The allocation of funds will be based on an adaptation of 7 CFR 1940, subpart L, Methodology and Formulas for Allocation of Loan and Grant Program Funds to incorporate the impact of the disasters.

2. Statutory and Regulatory Authority

The Community Facilities Disaster Repair Grant Program is authorized under Division N—Disaster Relief Supplemental Appropriations Act, 2023 of the Consolidated Appropriations Act, 2023, (Pub. L. 117-328); 7 U.S.C. 1926(a)(19); The Consolidated Farm and Rural Development Act as amended; 5 U.S.C. 301; and implemented by 2 CFR parts 200 and 400, uniform Federal grant awards regulations and 7 CFR 3570, subpart B, Community Facilities Grant Program regulations.

3. Definitions

Presidentially Declared Disasters. A declaration made by the President in accordance with applicable statutes that a disaster exists, necessitating assistance in the recovery of the impacted area.

Calendar Year (CY). The period of time beginning on January 1 and ending on December 31 of each year.

All other definitions applicable to this notice are published at 7 CFR 3570.53.

4. Application of Awards

The Agency will review and evaluate applications received in response to this notice based on the eligibility provisions found in 7 CFR 3570.61 and as indicated in this notice. For instance, applicants must be organized as a Public body, community-based Nonprofit corporation or association, or a Federally recognized Tribe. Further, the proposed project must primarily serve rural areas, be in an eligible rural area, serve a public purpose, and be unable to finance the proposed project from its own resources, or other funding resources, or through commercial credit at reasonable rates and terms without the requested grant assistance. Awards under the Community Facilities Disaster Repair Grant Program will be made on a rolling basis, providing priority to applications using specific selection criteria. Applications will be scored on a priority basis in accordance with 7 CFR 3570.67. If at any time the demand for grant funds is greater than the amount of grant funds available, a priority ranking scoring system will be used to determine which projects are funded.

B. Federal Award Information

Type of Award: Grants.

Fiscal Year Funds: Funds available until expended.

Available Funds: Up to $50,000,000.

Award Amounts: Grants may cover up to 75 percent of total project cost. There is no minimum or maximum award amount. Applications will compete for available funding allocated to the applicable USDA RD State office.

Anticipated Award Date: Awards will be made on a continual basis after publication of this Notice. Funds remain available until expended.

Performance Period: The period of performance will be noted in the Grant Agreement and will extend for 5 years from the date of obligation of funds.

Renewal or Supplemental Awards: None.

Type of Assistance Instrument: Grant.

C. Eligibility Information

1. Eligible Applicants

An eligible CF applicant must:

(a) Be one of the types of entities outlined in 7 CFR 3570.61(a);

(b) Be unable to finance the proposed project from its own resources, or through commercial credit as outlined in 7 CFR 3570.61(c); and

(c) Have the legal authority and responsibility to own, construct, operate, and maintain the proposed Facility as outlined in 7 CFR 3570.61(e).

2. Eligible Projects

An eligible CF project must:

(a) Be an eligible Facility as outlined in 7 CFR 3570.61(b);

(b) Be financially feasible as outlined in 7 CFR 3570.61(d); and

(c) Be for public use as outlined in 7 CFR 3570.61(f).

3. Eligible Uses of Funds

(a) Grant funds must be used to repair essential community facilities damaged by Presidentially declared disasters in CY 2022, including the replacement of damaged equipment or vehicles and/or the purchase of new equipment to undertake repairs to damaged facilities and for related purposes as outlined in 7 CFR 3570.62;

(b) Grant funds may not be used for purposes outlined in 7 CFR 3570.63(a);

4. Project Location Eligibility

To be eligible for CF grant funds under this Notice:

(a) The eligible CF project must be located in a rural area in a county (or a rural area of a Reservation for Indian tribes) with a disaster declaration as declared by the President of the United States;

(b) The disaster declaration must be related to the consequences of a disaster occurring in CY 2022.

(c) The Federal Emergency Management Agency (FEMA) must have provided a notice declaring the disaster.

The term rural or rural area is defined in section 343(a)(13)(C) of the Consolidated Farm and Rural Development Act (7 U.S.C. 1991(a)(13)(C)), as amended, as a city, town or, unincorporated area that has a population of not more than 20,000 inhabitants, and which excludes certain populations pursuant to 7 U.S.C. 1991(a)(13)(H) and (I). The boundaries for unincorporated areas in determining populations will be based on the Census Designated Places (CDP). Data from the most recent decennial census of the United States currently in use by Rural Development will be used in determining population.

For information on determining if a project is located in an area with a Disaster Declaration, go to https://www.rd.usda.gov/programs-services/community-facilities/community-facilities-program-disaster-repair-grants.

5. Cost Sharing or Matching

The Community Facilities Disaster Repair Grant may fund up to 75 percent of the cost of repair to a damaged Facility. Funding for the balance of the project may consist of other CF financial assistance, applicant contributions, or loans and grants from other sources. In-kind contributions are not an acceptable source of cost-sharing funds. Applicants must utilize cash contributions to fund the remaining project costs and these funds must be expended for an eligible purpose. The Community Facilities Direct Loan Program resources are also available to eligible applicants to satisfy cost sharing requirements. Applicants may request a combination of Community Facilities Direct Loan and Disaster Repair Grants in one application.

6. Other Program Requirements

Grant funds will be administered in accordance with this notice and all applicable statutory and regulatory requirements including eligibility for CF grants. Further, the Agency will consider the applicant's ability to finance the proposed project from its own resources, other funding resources, and/or through commercial credit at reasonable rates and terms.

D. Application and Submission Information

1. Address To Request Application Package

The requirements for submitting an application can be found at 7 CFR 3570.65. Applications will be processed by a USDA RD State Office. Agency state office contact information is available at https://www.rd.usda.gov/about-rd/state-offices. Applications will be accepted on a continual basis until funds are expended. Interested applicants must contact the RD Office for the state where the project is located to discuss potential projects prior to preparing their application and to connect with a technical assistance provider.

2. Content and Form of Application Submission

An application must contain all the required elements outlined in 7 CFR 3570.65. Applicants must meet applicable statutory and regulatory requirements including environmental, procurement, and construction requirements. The applicable RD State Office can assist applicants in understanding complete application requirements based on the scope of the proposed project. Each application must address the applicable priorities presented in 7 CFR 3570.67 for the type of funding being requested. Applications must address several factors including the population of the project location, median household income of the population served, whether the project addresses a healthcare or public safety priority, and whether the project is consistent with, and is reflected in, the State Strategic Plan.

3. System for Award Management and Unique Entity Identifier

(a) At the time of application, each applicant must have an active registration in the System for Award Management (SAM) before submitting its application in accordance with 2 CFR part 25. In order to register in SAM, entities will be required to obtain a Unique Entity Identifier (UEI). Instructions for obtaining the UEI are available at https://sam.gov/content/entity-registration.

(b) Applicant must maintain an active SAM registration, with current, accurate and complete information, at all times during which it has an active Federal award or an application under consideration by a Federal awarding agency.

(c) Applicant must ensure they complete the Financial Assistance General Certifications and Representations in SAM.

(d) Applicants must provide a valid UEI in its application, unless determined exempt under 2 CFR 25.110.

(e) The Agency will not make an award until the applicant has complied with all SAM requirements including providing the UEI. If an applicant has not fully complied with the requirements by the time the Agency is ready to make an award, the Agency may determine that the applicant is not qualified to receive a Federal award and use that determination as a basis for making a Federal award to another applicant.

4. Submission Dates and Times

Applications will be accepted on a continual basis, beginning on the publication date of this Notice, until all funds are expended.

5. Intergovernmental Review

Executive Order (E.O.) 12372, “Intergovernmental Review of Federal Programs,” applies to this program. This E.O. requires that Federal agencies provide opportunities for consultation on proposed assistance with State and local governments. Many states have established a Single Point of Contact (SPOC) to facilitate this consultation. For a list of States that maintain a SPOC, please see the White House website: https://www.whitehouse.gov/omb/management/office-federal-financial-management/. If your State has a SPOC, you may submit a copy of the application directly for review. Any comments obtained through the SPOC must be provided to your State Office for consideration as part of your application. If your state has not established a SPOC, you may submit your application directly to the Agency. Applications from Federally recognized Indian Tribes are not subject to this requirement.

6. Funding Restrictions

Grant funds may not be used to fund ineligible purposes per 7 CFR 3570.63.

Grant funds may not be used to:

(1) Pay initial operating expenses or annual recurring costs, including purchases or rentals that are generally considered to be operating and maintenance expenses (unless a CF loan is part of the funding package);

(2) Construct or repair electric generating plants, electric transmission lines, or gas distribution lines to provide services for commercial sale;

(3) Refinance existing indebtedness;

(4) Pay interest;

(5) Pay for facilities located in nonrural areas, except as noted in § 3570.61(b)(1).

(6) Pay any costs of a project when the median household income of the population to be served by the proposed Facility is above the higher of the poverty line or eligible percent (60, 70, 80, or 90) of the State Nonmetropolitan Median Household Income (SNMHI) (see § 3570.63(b));

(7) Pay project costs when other loan funding for the project is not at reasonable rates and terms;

(8) Pay an amount greater than 75 percent of the cost to develop the Facility;

(9) Pay costs to construct facilities to be used for commercial rental unless it is a minor part (15 percent or less) of the total floor space of the proposed Facility. In addition, the ineligible activity must be related to and enhance the primary purpose of the Facility;

(10) Construct facilities primarily for the purpose of housing State, Federal, or quasi-Federal agencies;

(11) Pay for any purposes restricted by 7 CFR 1942.17(d)(2); and

(12) Grant funds must not be used for expenses that have been reimbursed from any other sources or that other sources are obligated to reimburse.

E. Application Review Information

1. Criteria

Application Review Information—Applications will be reviewed in accordance with 7 CFR 3570.70 and scored on a priority basis in accordance with 7 CFR 3570.67. If at any time the demand for grant funds is greater than the amount of grant funds available, a priority ranking scoring system will be used to determine which projects are funded. Points will be distributed as follows:

(a) Population priorities. The proposed project is located in a rural community having a population of:

(1) 5,000 or less—30 points;

(2) Between 5,001 and 12,000, inclusive—20 points;

(3) Between 12,001 and 20,000, inclusive—10 points; or

(4) Between 20,001 and 50,000, inclusive, when applicable—5 points.

(b) Income priorities. The median household income of the population to be served by the proposed project is below the higher of the poverty line or:

(1) 60 percent of the SNMHI—30 points;

(2) 70 percent of the SNMHI—20 points;

(3) 80 percent of the SNMHI—10 points; or

(4) 90 percent of the SNMHI—5 points.

(c) Other priorities. Points will be assigned for one or more of the following initiatives:

(1) Project is consistent with, and is reflected in, the State Strategic Plan—10 points;

(2) Project is for health care—10 points; or

(3) Project is for public safety—10 points.

(d) Discretionary.

The State Director may assign up to 15 points to a project in addition to those that may be scored under paragraphs (a) through (c) of this section, in accordance with 7 CFR 3570.67(d)(1). These points are to address unforeseen exigencies or emergencies, such as the loss of a community facility due to an accident or natural disaster or the loss of joint financing if Agency funds are not committed in a timely fashion. In addition, the points will be awarded to projects benefiting from the leveraging of funds in order to improve compatibility and coordination between the Agency and other agencies' selection systems and for those projects that are the most cost effective. For the purpose of this funding announcement, requirements in 7 CFR 3570.67(d)(2) do not apply.

2. Review and Selection Process

The Agency reserves the right to offer the applicant less than the grant funding requested.

Applications will be reviewed in accordance with 7 CFR 3570.70 (a)-(d) and scored on a priority basis in accordance with 7 CFR 3570.67. If at any time the demand for grant funds is greater than the amount of grant funds available, a priority ranking scoring system will be used to determine which projects are funded, in accordance with 7 CFR 3570.68. Each request for grant assistance will be carefully scored and prioritized to determine which projects should be selected for further development and funding, as follows:

(a) Selection of applications for further processing. The approval official will, subject to paragraph (b) of this section, authorize grants for those eligible preapplications with the highest priority score. When selecting projects, the following circumstances must be considered:

(1) Scoring of project and scores of other applications on hand;

(2) Funds available in the State allocation; and

(3) If other Community Facilities financial assistance is needed for the project, the availability of other funding sources.

(b) Lower scoring projects.

(1) In cases when preliminary cost estimates indicate that an eligible, high-scoring application is not feasible, or would require grant assistance exceeding 50 percent of a State's current annual allocation, or an amount greater than that remaining in the State's allocation, the approval official may instead select the next lower-scoring application for further processing provided the high-scoring applicant is notified of this action and given an opportunity to review the proposal and resubmit it prior to selection of the next application.

(2) If it is found that there is no effective way to reduce costs, the approval official, after consultation with the applicant, may request an additional allocation of funds from the National office.

3. Anticipated Announcement and Federal Award Dates

Applications will be reviewed and approved on a continual basis, as applications are submitted and as funding is available.

F. Federal Award Administration Information

1. Federal Award Notices

Applicants selected for funding will be provided a Letter of Conditions. Upon acceptance of the conditions, the applicant will sign and return to the processing office Forms RD 1942-46, “Letter of Intent to Meet Conditions”, and RD 1940-1, “Request for Obligation of Funds”. The grant is approved on the date an Agency signed copy of Form RD 1940-1, “Request for Obligation of Funds,” is mailed to the applicant.

Prior to the disbursement of grant funds, applicants approved for funding will be required to sign an Agency approved Grant Agreement, meet any pre-disbursement conditions outlined in the Letter of Conditions, and meet the applicable Statutory or Regulatory authority for this action listed in Section A. Program Description.

In the event the application is not approved, the applicant will be notified in writing of the reasons for rejection and provided applicable review and appeal rights in accordance with 7 CFR part 11.

2. Administrative and National Policy Requirements

Additional requirements that apply to grantees selected to receive Community Facilities Disaster Repair Grants can be found in the Grants and Agreements regulations of the Department of Agriculture codified in 2 CFR parts 180, 200, 400, 415, 417, 418, 421; 2 CFR parts 25 and 170; and 48 CFR 31.2.

3. Reporting

As outlined in the letter of conditions and grant agreement issued by the Agency, grant recipients will be required to provide performance reports and annual financial statements in accordance with 2 CFR part 200 as adopted by the Agency in 2 CFR part 400. Grant recipients will also provide performance and financial monitoring and reporting information in accordance with 2 CFR part 200, subpart D, “Post Federal Award Requirements.”

G. Federal Awarding Agency Contacts

For general questions about this announcement, please contact your USDA Rural Development State Office provided in the ADDRESSES section of this notice.

H. Other Information

1. Paperwork Reduction Act

In accordance with the Paperwork Reduction Act of 1995 (44 U.S.C. chapter 35), the information collection requirements associated with this program, as covered in this notice, have been approved by the Office of Management and Budget (OMB) under OMB Control Number 0575-0173.

2. National Environmental Policy Act

All recipients under this Notice are subject to the requirements of 7 CFR part 1970.

3. Federal Funding Accountability and Transparency Act

All applicants, in accordance with 2 CFR part 25, must be registered in SAM and have a UEI number as stated in Section D.3 of this notice. All recipients of Federal financial assistance are required to report information about first-tier sub-awards and executive total compensation in accordance with 2 CFR part 170.

4. Civil Rights

All grants made under this notice are subject to Title VI of the Civil Rights Act of 1964 as required by the USDA (7 CFR part 15, subpart A—Nondiscrimination in Federally-Assisted Programs of the Department of Agriculture—Effectuation of Title VI of the Civil Rights Act of 1964) and section 504 of the Rehabilitation Act of 1973, Title VIII of the Civil Rights Act of 1968, Title IX, Executive Order 13166 (Limited English Proficiency), Executive Order 11246, the Equal Credit Opportunity Act of 1974, Americans with Disabilities Act of 1990 (ADA) as amended; and Age Discrimination Act of 1975, as amended.

5. Non-Discrimination Statement

In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, staff office; or the Federal Relay Service at (800) 877-8339.

To file a program discrimination complaint, a complainant should complete a Form AD-3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Joaquin Altoro,
Administrator, Rural Housing Service.

[FR Doc. 2023-15393 Filed 7-19-23; 8:45 am]

BILLING CODE 3410-XV-P